DEPARTMENT OF DEFENSE

GENERAL SERVICES ADMINISTRATION

NATIONAL AERONAUTICS AND SPACE ADMINISTRATION

[OMB Control No. 9000-0062; Docket No. 2021-0053; Sequence No. 9]

Submission for OMB Review; Certain Federal Acquisition Regulation Part 36 Construction Contract Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirements regarding certain Federal Acquisition Regulation (FAR) part 36 construction contract requirements.

DATES: Submit comments on or before September 29, 2021.

ADDRESSES: Written comments and recommendations for this information collection should be sent within 30 days of publication of this notice to www.reginfo.gov/public/do/PRAMain. Find this particular information collection by selecting “Currently under Review—Open for Public Comments” or by using the search function. Additionally, submit a copy to GSA through https://www.regulations.gov and follow the instructions on the site. This website provides the ability to type short comments directly into the comment field or attach a file for lengthier comments.

Instructions: All items submitted must cite “9000-0062, Certain Federal Acquisition Regulation Part 36 Construction Contract Requirements.” Comments received generally will be posted without change to https://www.regulations.gov, including any personal and/or business confidential information provided. To confirm receipt of your comment(s), please check https://www.regulations.gov approximately two-to-three days after submission to verify posting. If there are difficulties submitting comments, contact the GSA Regulatory Secretariat Division at 202-501-4755 or GSARegSec@gsa.gov.

FOR FURTHER INFORMATION CONTACT: Jennifer Hawes, Procurement Analyst, at telephone 202-969-7386, or jennifer.hawes@gsa.gov.

SUPPLEMENTARY INFORMATION:

A. OMB control number, Title, and any Associated Form(s)

9000-0062, Certain Federal Acquisition Regulation Part 36 Construction Contract Requirements.

B. Need and Uses

This clearance covers the information that contractors must submit to comply with the following requirements in FAR part 36:

• FAR 52.236-5, Material and Workmanship. This clause requires the contractor to obtain contracting officer approval of the machinery, equipment, material, or articles to be incorporated into the work. The contractor's request must include: The manufacturer's name, the model number, and other information concerning the performance, capacity, nature, and rating of the machinery and mechanical and other equipment; and full information concerning the material or articles. When directed by the contracting officer, the contractor must submit sufficient information on and, in some cases, samples of the items requiring approval. The contracting officer uses this information to determine whether the machinery, equipment, material, or articles meet the standards of quality specified in the contract. A contracting officer may reject work if the contractor installs machinery, equipment, material, or articles in the work without obtaining the contracting officer's approval.

• FAR 52.236-13, Accident Prevention, Alternate I. This alternate to the basic clause requires the contractor to submit a written proposed plan to provide and maintain work environments and procedures that will safeguard the public and Government personnel, property, materials, supplies, and equipment exposed to contractor operations and activities; avoid interruptions of Government operations and delays in project completion dates; and control costs in the performance of this contract. The plan must include an analysis of the significant hazards to life, limb, and property inherent in contract work performance and a plan for controlling these hazards. The contracting officer and technical representatives analyze the Accident Prevention Plan to determine if the proposed plan will satisfy the safety requirements identified in the contract, to include certain provisions of the Occupational Safety and Health Act and applicable standards issued by the Secretary of Labor at 29 CFR part 1926 and 29 CFR part 1910.

• FAR 52.236-15, Schedules for Construction Contracts. This clause requires the contractor to prepare and submit to the contracting officer for approval three copies of a practicable schedule showing the order in which the contractor proposes to perform the work, and the dates on which the contractor contemplates starting and completing the several salient features of the work (including acquiring materials, plant, and equipment). The contracting officer uses this information to monitor progress under a federal construction contract when other management approaches for ensuring adequate progress are not used.

C. Annual Burden

Respondents: 4,412.

Total Annual Responses: 15,352.

Total Burden Hours: 12,034.

D. Public Comment

A 60-day notice was published in the Federal Register at 86 FR 30936, on June 10, 2021. No comments were received.

Obtaining Copies: Requesters may obtain a copy of the information collection documents from the GSA Regulatory Secretariat Division by calling 202-501-4755 or emailing GSARegSec@gsa.gov. Please cite OMB Control No. 9000-0062, Certain Federal Acquisition Regulation Part 36 Construction Contract Requirements.

Janet Fry,
Director, Federal Acquisition Policy Division, Office of Governmentwide Acquisition Policy, Office of Acquisition Policy, Office of Governmentwide Policy.

[FR Doc. 2021-18622 Filed 8-27-21; 8:45 am]

BILLING CODE 6820-EP-P